NUCLEAR REGULATORY COMMISSION

[Docket No. 50-341]

Detroit Edison Company; FERMI 2; Exemption

1.0 Background

Detroit Edison Company (the licensee) is the holder of Facility Operating License No. NPF-43, which authorizes operation of Fermi 2. The license provides, among other things, that the facility is subject to all rules, regulations, and orders of the U.S. Nuclear Regulatory Commission (NRC, the Commission) now or hereafter in effect.

The facility consists of a boiling-water reactor located in Monroe County, Michigan.

Fermi 2 is in the process of re-racking its spent fuel pool (SFP), which involves the replacement of some older racks with higher-density racks. The NRC approved the re-rack project in its letter dated January 25, 2001. A result of the re-rack effort is that some of the SFP floor space that was previously used to store miscellaneous items is no longer available, due to the addition of the new racks. To address this, Fermi 2 is introducing two Holtec Overhead Platforms (HOPs) to the SFP which are designed to be placed on two specific spent fuel storage racks as approved by the NRC in its letter dated January 25, 2001.

2.0 Request/Action

Title 10 of the Code of Federal Regulations (10 CFR), Part 74, section 74.19(c), requires that each licensee authorized to possess special nuclear material (SNM), at any one time and site location, in a quantity greater than 350 grams of contained uranium-235, uranium-233, or plutonium, or any combination thereof, shall conduct a physical inventory of all SNM in its possession under license at intervals not to exceed 12 months.

By letter dated April 27, 2007, as supplemented by letter dated November 9, 2007, the licensee requested an exemption from the requirements of 10 CFR 74.19(c) to conduct a physical inventory of all special nuclear material at intervals not to exceed 12 months. Specifically, the request is for exemption from the physical inventory requirements for those fuel assemblies that are stored under the HOPs when the HOPs are installed in the spent fuel racks.

3.0 Discussion

Pursuant to 10 CFR 74.7, the Commission may, upon application by any interested person or upon its own initiative, grant exemptions from the requirements of 10 CFR Part 74, when the exemptions are authorized by law and will not endanger life or property or the common defense and security, and are otherwise in the public interest.

Authorized by Law

This exemption would exempt the licensee from the requirements of 10 CFR 74.19(c) for the physical inventory requirements of the fuel assemblies that are stored under the HOPs when the HOPs are installed in the spent fuel racks. As stated above, 10 CFR 74.7 allows the NRC to grant exemptions from the requirements of 10 CFR Part 74. The NRC staff has determined that granting of the licensee's proposed exemption will not result in a violation of the Atomic Energy Act of 1954, as amended, or the Commission's regulations. Therefore, the exemption is authorized by law.

Will Not Endanger Life or Property or Common Defense and Security

Administrative controls associated with the movement of the HOPs and the HOP itself (physical barrier) will prohibit movement of the fuel assemblies in the fuel storage racks below the HOPs when the HOPs are installed. The licensee submitted regulatory commitments in Enclosure 1 of the letter dated November 9, 2007, that provide further assurance that the SNM stored under the HOPs will be adequately controlled and accounted for by the licensee. The HOPs add another barrier for access to the SNM in the SFP, thus, increasing security of SNM stored under the HOPs when the HOPs are installed. Therefore, the exemption will not endanger life or property or common defense and security.

Otherwise in the Public Interest

The licensee was previously approved by the NRC to install the HOPs as part of the licensee's re-rack of Fermi 2 SFP. The re-rack project increased the capacity of the SFP from 2,414 to 4,608 fuel assemblies to provide full core discharge capability after June 2001. As discussed above, the HOPs are needed to be installed because, due to the addition of the new racks, some of the SFP floor space that was previously used to store miscellaneous items is no longer available. In order for the licensee to perform physical inventory of the SNM stored below the HOPs, the licensee would have to clear and uninstall the HOPs. The HOPs add another barrier for access to the SNM in the SFP, thus increasing security of SNM stored under the HOP when the HOPs are installed. An increase in security is beneficial to public interest. Therefore, the exemption is otherwise in the public interest.

4.0 Conclusion

Accordingly, the Commission has determined that, pursuant to 10 CFR 74.7, the exemption is authorized by law and will not endanger life or property or the common defense and security, and is otherwise in the public interest. Therefore, the Commission hereby grants Detroit Edison Company an exemption to Fermi 2 from the requirements of 10 CFR 74.19(c) for physical inventory for those fuel assemblies that are stored under the HOPs when the HOPs are installed in the spent fuel racks. The annual physical inventory of all other SNM will continue to be performed per the requirements of 10 CFR 74.19(c).

Pursuant to 10 CFR 51.32, the Commission has determined that the granting of this exemption will not have a significant effect on the quality of the human environment (72 FR 70619).

This exemption is effective upon issuance.

Dated at Rockville, Maryland, this 17th day of December 2007.
For the Nuclear Regulatory Commission.
Catherine Haney,
Division Director, Division of Operating Reactor Licensing, Office of Nuclear Reactor Regulation.

[FR Doc. E7-24973 Filed 12-21-07; 8:45 am]

BILLING CODE 7590-01-P